DEPARTMENT OF THE TREASURY

Alcohol and Tobacco Tax and Trade Bureau

27 CFR Part 9

[T.D. TTB-40; Re: Notice No. 46]

RIN 1513-AB01

Establishment of the Wahluke Slope Viticultural Area (2005R-026P)

AGENCY: Alcohol and Tobacco Tax and Trade Bureau, Treasury.

ACTION: Final rule; Treasury decision.

SUMMARY: This Treasury decision establishes the Wahluke Slope viticultural area in Grant County, Washington. We designate viticultural areas to allow vintners to better describe the origin of their wines and to allow consumers to better identify wines they may purchase.

EFFECTIVE DATE: January 6, 2006.

FOR FURTHER INFORMATION CONTACT: N. A. Sutton, Regulations and Rulings Division, Alcohol and Tobacco Tax and Trade Bureau, 925 Lakeville St., No. 158, Petaluma, CA 94952; telephone 415-271-1254.

SUPPLEMENTARY INFORMATION:

Background on Viticultural Areas

TTB Authority

Section 105(e) of the Federal Alcohol Administration Act (the FAA Act, 27 U.S.C. 201 et seq.) requires that alcohol beverage labels provide consumers with adequate information regarding product identity and prohibits the use of misleading information on those labels. The FAA Act also authorizes the Secretary of the Treasury to issue regulations to carry out its provisions. The Alcohol and Tobacco Tax and Trade Bureau (TTB) administers these regulations.

Part 4 of the TTB regulations (27 CFR part 4) allows the establishment of definitive viticultural areas and the use of their names as appellations of origin on wine labels and in wine advertisements. Part 9 of the TTB regulations (27 CFR part 9) contains the list of approved viticultural areas.

Definition

Section 4.25(e)(1)(i) of the TTB regulations (27 CFR 4.25(e)(1)(i)) defines a viticultural area for American wine as a delimited grape-growing region distinguishable by geographical features, the boundaries of which have been recognized and defined in part 9 of the regulations. These designations allow vintners and consumers to attribute a given quality, reputation, or other characteristic of a wine made from grapes grown in an area to its geographical origin. The establishment of viticultural areas allows vintners to describe more accurately the origin of their wines to consumers and helps consumers to identify wines they may purchase. Establishment of a viticultural area is neither an approval nor an endorsement by TTB of the wine produced in that area.

Requirements

Section 4.25(e)(2) of the TTB regulations outlines the procedure for proposing an American viticultural area and provides that any interested party may petition TTB to establish a grape-growing region as a viticultural area. Section 9.3(b) of the TTB regulations requires the petition to include—

• Evidence that the proposed viticultural area is locally and/or nationally known by the name specified in the petition;

• Historical or current evidence that supports setting the boundary of the proposed viticultural area as the petition specifies;

• Evidence relating to the geographical features, such as climate, soils, elevation, and physical features, that distinguish the proposed viticultural area from surrounding areas;

• A description of the specific boundary of the proposed viticultural area, based on features found on United States Geological Survey (USGS) maps; and

• A copy of the appropriate USGS map(s) with the proposed viticultural area's boundary prominently marked.

Wahluke Slope Petition and Rulemaking

General Background

The Wahluke Slope Wine Grape Growers Association, represented by Alan J. Busacca, Ph.D., proposed the establishment of the 81,000-acre Wahluke Slope viticultural area. Located in southern Grant County in eastern Washington State, the Wahluke Slope area is approximately 145 miles southeast of Seattle and immediately north of the Hanford Reservation of the United States Department of Energy (USDOE). The proposed Wahluke Slope area is also entirely within the existing Columbia Valley viticultural area (27 CFR 9.74).

The major distinguishing features of the proposed Wahluke Slope viticultural area include its single landform and geographic isolation, distinctive soil patterns, and unique climatic characteristics. We summarize below the evidence submitted in support of the petition.

Name Evidence

The eight USGS quadrangle maps used to describe the boundary of the proposed viticultural area label the region within the proposed area and the nearby Hanford Reservation as “Wahluke Slope.” Several commercial maps also label this region of southern Grant County as Wahluke Slope.

The 2002 Washington Wine Grape Acreage Survey, compiled by the Washington Agricultural Statistics Service, identifies the Wahluke Slope area within the larger Columbia Valley viticultural area. Also, the April 19, 1999, edition of the “Hanford Reach,” a USDOE publication, states that the Secretary of Energy proposed to preserve a portion of the Wahluke Slope area along the Columbia River. A Grant County tourism press release dated March 24, 2004, describes the scenery and recreational opportunities in the Wahluke Slope area.

Boundary Evidence

The Wahluke Slope sits on a mega alluvial plain, also known as an alluvial fan. The proposed boundary line encompasses the entire portion of the mega fan potentially available for vineyard development, including all land held in private ownership and small amounts of government-owned land. Also, the Wahluke Slope area is an isolated island of wine grape production, with no known vineyards within five miles, in any direction, beyond the proposed boundary line.

Generally, lands to the east, south, and west of the proposed Wahluke Slope area's boundary line are Federal-owned or State-owned property, as noted on USGS maps of the area. To the north, the Saddle Mountains flank the proposed area's 1,480-foot boundary line.

To the southeast of the proposed Wahluke Slope viticultural area, the land has a high water table, cold air pockets, and frost, which create an environment unsuitable for vineyard production. To the south of the proposed boundary is the Hanford Reservation. The classified activities and history of this USDOE reservation make it unsuitable for agricultural development. To the west of the Wahluke Slope area, and across the Columbia River, are steeply sloping, rugged canyons. The soils there are shallow, stony, and unsuitable for any crop. Also, to the north, beyond the proposed area's 1,480-foot boundary line, the Saddle Mountains have high elevation bedrock slopes, no irrigation access, and non-agricultural soils.

The combination of terrain with unsuitable growing conditions and government-owned lands surrounding the proposed Wahluke Slope viticultural area, in conjunction with the distinguishing viticultural features of the area, makes the proposed boundary line the most appropriate for the proposed Wahluke Slope viticultural area.

Distinguishing Features

The Wahluke Slope region is situated on the Columbia Plateau in eastern Washington, which is bordered by the Rocky Mountains on the north and east, the Blue Mountains to the south, and the Cascade Mountains to the west. The proposed Wahluke Slope viticultural area sits on the south-facing alluvial benchlands of the Saddle Mountains.

Topography

The proposed Wahluke Slope viticultural area's elevation varies from 425 feet along the Columbia River to 1,480 feet on the south slope of the Saddle Mountains. Most of the proposed area's vineyards are between 425 feet and 1,000 feet in elevation.

The proposed Wahluke Slope viticultural area is geographically isolated from other wine production areas in the State of Washington. Wahluke Slope is bounded by the bedrock ridge of the Saddle Mountains, the Columbia River, and government-owned lands, providing isolation and a separate viticultural identity.

The proposed Wahluke Slope viticultural area sits on a mega alluvial fan, a single landform geographical area, extending 15 miles in length. Other viticultural areas in Washington State have more diverse and complex landforms, with the possible exception of the much smaller Red Mountain viticultural area (27 CFR 9.167).

The south-facing Wahluke Slope landform has relatively flat agricultural sites that allow for viticultural uniformity in plant vigor and ripening. The mega fan eventually drops away several hundred feet on three sides, providing good air drainage that minimizes spring and fall freezes in the area.

Soils

Ice-age events played an important role in the formation of soils in the proposed viticultural area. When the Lake Missoula glacial ice dam repeatedly failed, large water floods flowed across eastern Washington depositing gravel bars and fine-grained sandy and silty sediments. Winds reworked the glacial sediments to form dunes of sand and loess (the silty sediment accumulated from the fallout of dust). These sediments range in thickness from a few inches to many feet deep. Soils of the proposed Wahluke Slope viticultural area have formed predominantly from deep wind-blown sand, averaging greater than 60 inches in depth. To a lesser extent, some soils have formed from the wind-blown sand or silty loess sediments of the giant glacial floods.

Wahluke Slope soils are distinctive by their uniformity over large areas. The Quincy-Burbank-Hezel soil series, which covers more than half the proposed viticultural area, encompasses a contiguous area of several square miles as documented in the Soil Survey of Grant County, Washington, (Gentry, 1984) on map sheets 163, 164, and 169. This uniformity contrasts with the soil variability of some nearby regions, including the Red Mountain viticultural area and the Canoe Ridge area of the Horse Heaven Hills region. Other soils series within the proposed boundaries documented in the Soil Survey of Grant County include the Sagemoor-Kennewick-Warden, the Taunton-Timmerman-Quincy, and the Scoon-Taunton-Finley series, as well as several others with small acreages.

Wahluke Slope soils are unique with their smooth landform shape, shallow slope angle that averages less than 8 percent, and predominant south-facing orientation at the top of the mega alluvial fan. This smooth landform results in consistent climate variability across the proposed viticultural area.

Climate

The State of Washington's Public Agricultural Weather System (PAWS) Web site provides the statistics used in the Wahluke Slope viticultural area petition. Climatic information for the petition generally spans 10 years—1994 through 2003—as available.

Precipitation in the proposed Wahluke Slope viticultural area averages 5.9 inches annually, making it the driest area in that region of eastern Washington, according to PAWS. Also, the proposed area has the lowest harvest rainfall average for the weather stations compared. The viticultural advantages include irrigation control during the growing season and low potential for harmful rainfall at harvest.

Pan evapotranspiration (Etp) in the Wahluke Slope area ranks first among the nine PAWS stations cited. Photosynthesis and transpiration, which are key factors in grape production, are the highest in the Wahluke Slope area as compared to other selected stations in Washington.

Wahluke Slope averages 3,013 degree-days of heat accumulation annually. Each degree that a day's mean temperature is above 50 degrees Fahrenheit, which is the minimum temperature required for grapevine growth, is counted as one degree-day (see “General Viticulture,” Albert J. Winkler, University of California Press, 1975). In addition, the Wahluke Slope region ranks third highest in mean maximum temperature, mean annual temperature, and solar radiation, according to PAWS data. These temperatures confirm Wahluke Slope as a grape-growing hot spot within Washington State.

Finally, Wahluke Slope is the third windiest site evaluated, which affects grape plant growth, causing shorter shoot length, smaller leaf size, and fewer and smaller grape clusters.

Notice of Proposed Rulemaking and Comments Received

On May 19, 2005, TTB published a notice of proposed rulemaking regarding the establishment of the Wahluke Slope viticultural area in the Federal Register (70 FR 28861) as Notice No. 46. In that notice, TTB requested comments by July 18, 2005, from all interested persons. TTB received one comment in response. This comment strongly supports the establishment of the Wahluke Slope viticultural area.

TTB Finding

After review of the petition and the comment received, TTB finds that the evidence submitted supports the establishment of the proposed viticultural area. Therefore, under the authority of the Federal Alcohol Administration Act and part 4 of our regulations, we establish the “Wahluke Slope” viticultural area in Grant County, Washington, effective 30-days from this document's publication date.

Boundary Description

See the narrative boundary description of the viticultural area in the regulatory text published at the end of this notice.

Maps

The petitioner provided the required maps, and we list them below in the regulatory text.

Impact on Current Wine Labels

Part 4 of the TTB regulations prohibits any label reference on a wine that indicates or implies an origin other than the wine's true place of origin. With the establishment of this viticultural area and its inclusion in part 9 of the TTB regulations, its name, “Wahluke Slope,” is recognized as a name of viticultural significance. In addition, with the establishment of the Wahluke Slope viticultural area, the name “Wahluke” standing alone will be considered a term of viticultural significance because consumers and vintners could reasonably attribute the quality, reputation, or other characteristic of wine made from grapes grown in the Wahluke Slope viticultural area to the name Wahluke itself. Consequently, wine bottlers using “Wahluke Slope” or “Wahluke” in a brand name, including a trademark, or in another label reference as to the origin of the wine, must ensure that the product is eligible to use the viticultural area's name as an appellation of origin.

For a wine to be eligible to use as an appellation of origin, a viticultural area name or other term specified as being viticulturally significant in part 9 of the TTB regulations, at least 85 percent of the grapes used to make the wine must have been grown within the area represented by that name or other term, and the wine must meet the other conditions listed in 27 CFR 4.25(e)(3). If the wine is not eligible to use the viticultural area name or other viticulturally significant term as an appellation of origin and that name or other term appears in the brand name, then the label is not in compliance and the bottler must change the brand name and obtain approval of a new label. Similarly, if the viticultural area name or other viticulturally significant term appears in another reference on the label in a misleading manner, the bottler would have to obtain approval of a new label.

Different rules apply if a wine has a brand name containing a viticultural area name that was used as a brand name on a label approved before July 7, 1986. See 27 CFR 4.39(i)(2) for details.

Regulatory Flexibility Act

We certify that this regulation will not have a significant economic impact on a substantial number of small entities. This regulation imposes no new reporting, recordkeeping, or other administrative requirement. Any benefit derived from the use of a viticultural area name is the result of a proprietor's efforts and consumer acceptance of wines from that area. Therefore, no regulatory flexibility analysis is required.

Executive Order 12866

This rule is not a significant regulatory action as defined by Executive Order 12866 (58 FR 51735). Therefore, it requires no regulatory assessment.

Drafting Information

Nancy Sutton of the Regulations and Rulings Division drafted this document.

List of Subjects in 27 CFR Part 9

Wine.

The Regulatory Amendment

For the reasons discussed in the preamble, we amend 27 CFR, chapter 1, part 9, as follows:

PART 9—AMERICAN VITICULTURAL AREAS

1. The authority citation for part 9 continues to read as follows:

Authority: 27 U.S.C. 205.

Subpart C—Approved American Viticultural Areas

2. Amend subpart C by adding § 9.192 to read as follows:

§ 9.192 Wahluke Slope.

(a) Name. The name of the viticultural area described in this section is “Wahluke Slope”. For purposes of part 4 of this chapter, “Wahluke Slope” and “Wahluke” are terms of viticultural significance.

(b) Approved Maps. The appropriate maps for determining the boundary of the Wahluke Slope viticultural area are eight United States Geological Survey 1:24,000 scale topographic maps. They are titled:

(1) Beverly Quadrangle, Washington, 1965;

(2) Beverly SE Quadrangle, Washington—Grant Co., 1965;

(3) Smyrna Quadrangle, Washington—Grant Co., Provisional Edition 1986;

(4) Wahatis Peak Quadrangle, Washington—Grant Co., Provisional Edition 1986;

(5) Coyote Rapids Quadrangle, Washington, Provisional Edition 1986;

(6) Vernita Bridge Quadrangle, Washington, Provisional Edition 1986;

(7) Priest Rapids NE Quadrangle, Washington, Provisional Edition 1986; and

(8) Priest Rapids Quadrangle, Washington, 1948; photo revised 1978.

(c) Boundary. The Wahluke Slope viticultural area is located in Grant County, Washington. The boundary of the Wahluke Slope viticultural area is as described below:

(1) The beginning point is at the northwest corner of the viticultural area where the east bank of the Columbia River intersects the north boundary line of section 22, T15N/R23E, on the Beverly map; then

(2) From the beginning point proceed straight east 1.5 miles to the intersection of the section 23 north boundary line and the 1,480-foot elevation line, T15N/R23E, Beverly map; then

(3) Proceed generally east along the meandering 1,480-foot elevation line, crossing the Beverly map, the Beverly SE map, and the Smyrna map, and continue onto the Wahatis Peak map to the intersection of the 1,480-foot elevation line and the eastern boundary line of section 15, which forms a portion of the boundary line of the Hanford Site, T15N/R26E, Wahatis Peak map; then

(4) Proceed generally southwest along the Hanford Site boundary in a series of 90 degree angles, crossing the Wahatis map, the Coyote Rapids map in section 36, T15N/R25E, and the Vernita Bridge map, and continue onto the Priest Rapids NE map to the intersection of the Hanford Site boundary and the north bank of the Columbia River, section 10, T13N/R24E, Priest Rapids NE map; then

(5) Proceed generally west along the north bank of the Columbia River, crossing onto the Priest Rapids map and, turning north-northwest, continue along the river bank and, crossing onto the Beverly map, return to the beginning point.

Signed: September 29, 2005.
John J. Manfreda,
Administrator.
Approved: November 3, 2005.
Timothy E. Skud,
Deputy Assistant Secretary, (Tax, Trade, and Tariff Policy).

[FR Doc. 05-23679 Filed 12-6-05; 8:45 am]

BILLING CODE 4810-31-P